INTERNATIONAL TRADE COMMISSION

[Investigation No. 332-420]

Advice Concerning Possible Modifications to the U.S. Generalized System of Preferences With Respect to Certain Products Imported From India

AGENCY: United States International Trade Commission.

ACTION: Institution of investigation and scheduling of hearing.

SUMMARY: On October 31, 2000, the Commission received a request from the United States Trade Representative (USTR) for an investigation under section 332(g) of the Tariff Act of 1930 for the purpose of providing advice concerning possible modifications to the Generalized System of Preferences (GSP) with respect to certain products imported from India.

Following receipt of the request and in accordance therewith, the Commission instituted investigation No. 332-420 in order to provide advice as to whether any industry in the United States is likely to be adversely affected by a waiver of the competitive need limits specified in section 503(c)(2)(A) of the Trade Act of 1974, with respect to the HTS subheadings ¹ listed below imported from India:

¹ See USTR Federal Register notice of November 1, 2000 (65 FR 65370) for article description.

7113.19.25 7418.19.10

7113.19.29 9405.50.30

7113.19.50

With respect to the competitive need limit in section 503(c)(2)(A)(i)(I) of the 1974 Act, the Commission, as requested, will use the dollar value limit of $95,000,000.

As requested by USTR, the Commission will seek to provide its advice not later than February 6, 2001.

EFFECTIVE DATE: November 6, 2000.

FOR FURTHER INFORMATION CONTACT: (1) Project Manager, Eric Land (202-205-3349), (2) Deputy Project Manager, Cynthia B. Foreso (202-205-3348). The above persons are in the Commission's Office of Industries. For information on legal aspects of the investigation contact William Gearhart of the Commission's Office of the General Counsel at 202-205-3091.

Background

The subject articles the product of India are currently ineligible for duty-free treatment under the GSP program because imports from India exceed the competitive need limits. The USTR letter noted that as a result of a White House Initiative with India, the Trade Policy Staff Committee (TPSC) recently announced in the Federal Register the initiation of a review to consider modification of the GSP with respect to such products imported from India. Modifications to the GSP which may result from this review will be announced in the spring of 2001.

Public Hearing

A public hearing in connection with this investigation is scheduled to begin at 9:30 a.m. on December 13, 2000, at the U.S. International Trade Commission Building, 500 E Street SW., Washington, DC. All persons have the right to appear by counsel or in person, to present information, and to be heard. Persons wishing to appear at the public hearing should file a letter with the Secretary, United States International Trade Commission, 500 E St., SW., Washington, DC 20436, not later than the close of business (5:15 p.m.) on November 27, 2000. In addition, persons appearing should file prehearing briefs (original and 14 copies) with the Secretary by the close of business on November 29, 2000. Posthearing briefs should be filed with the Secretary by close of business on December 21, 2000. In the event that no requests to appear at the hearing are received by the close of business on November 27, 2000, the hearing will be canceled. Any person interested in attending the hearing as an observer or non-participant may call the Secretary to the Commission (202-205-1816) after November 28, 2000 to determine whether the hearing will be held.

Written Submissions

In lieu of or in addition to appearing at the public hearing, interested persons are invited to submit written statements concerning the investigation. Written statements should be received by the close of business on December 21, 2000. Commercial or financial information which a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons. All submissions should be addressed to the Secretary at the Commission's office in Washington, D.C. The Commission's rules do not authorize filing of submissions with the Secretary by facsimile or electronic means. Hearing-impaired individuals are advised that information on this matter can be obtained by contacting our TDD terminal on (202) 205-1810.

Issued: November 7, 2000.
By order of the Commission.
Donna R. Koehnke,
Secretary.

[FR Doc. 00-29072 Filed 11-13-00; 8:45 am]

BILLING CODE 7020-02-P